DEPARTMENT OF DEFENSE

Department of the Air Force

U.S. Air Force Scientific Advisory Board; Notice of Meeting

AGENCY: Department of the Air Force, Air Force Scientific Advisory Board.

ACTION: Meeting notice.

Under the provisions of the Federal Advisory Committee Act of 1972 (5 U.S.C., Appendix, as amended), the Government in the Sunshine Act of 1976 (5 U.S.C. 552b, as amended), and 41 CFR 102-3.150, the Department of Defense announces that the United States Air Force (USAF) Scientific Advisory Board (SAB) Winter Board meeting will take place on 23 January 2018 at the Beckman Center of National Academies of Science and Engineering, located at 100 Academy Drive, Irvine, California 92617. The purpose of this Air Force Scientific Advisory Board quarterly meeting is to kick-off the Scientific Advisory Board's FY18 studies, offering board members the opportunity to hear directly from a wide-range of Department of Defense subject matter experts and provide dedicated time to begin collaboration on research. The meeting will occur from 8:30 a.m.-4:15 p.m. on Tuesday, 23 January 2018. The session that will be open to the general public will be held from 8:30 a.m. to 9:00 a.m. on 23 January 2018. In accordance with 5 U.S.C. 552b, as amended, and 41 CFR 102-3.155, a number of sessions of the Air Force Scientific Advisory Board Winter Board meeting will be closed to the general public because they will discuss classified information and matters covered by Section 552b of Title 5, United States Code, subsection (c), subparagraph (1).

Any member of the public that wishes to attend this meeting or provide input to the Air Force Scientific Advisory Board must contact the Scientific Advisory Board meeting organizer at the phone number or email address listed in this announcement at least five working days prior to the meeting date. Please ensure that you submit your written statement in accordance with 41 CFR 102-3.140(c) and section 10(a)(3) of the Federal Advisory Committee Act. Statements being submitted in response to the agenda mentioned in this notice must be received by the Scientific Advisory Board meeting organizer at least five calendar days prior to the meeting commencement date. The Scientific Advisory Board meeting organizer will review all timely submissions and respond to them prior to the start of the meeting identified in this notice. Written statements received after this date may not be considered by the Scientific Advisory Board until the next scheduled meeting.

FOR FURTHER INFORMATION CONTACT: The Scientific Advisory Board meeting organizer, Lt Col Mike Rigoni at michael.j.rigoni.mil@mail.mil or 703-695-4297, United States Air Force Scientific Advisory Board, 1500 West Perimeter Road, Ste. #3300, Joint Base Andrews, MD 20762.

Henry Williams,
Acting Air Force Federal Register Officer.

[FR Doc. 2017-25555 Filed 11-24-17; 8:45 am]

BILLING CODE 5001-10-P